DEPARTMENT OF LABOR

Employment and Training Administration

[TA-W-41,893]

J & J Forging Inc., Monaca, Pennsylvania; Notice of Negative Determination Regarding Application for Reconsideration

By application received on October 21, 2002, a petitioner requested administrative reconsideration of the Department's negative determination regarding eligibility for workers and former workers of the subject firm to apply for Trade Adjustment Assistance (TAA). The denial notice applicable to workers of J & J Forging Inc., Monaca, Pennsylvania was signed on September 11, 2002, and published in the Federal Register on September 27, 2002 (67 FR 61160).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at J & J Forging Inc., Monaca, Pennsylvania engaged in activities related to processing steel, titanium and copper alloy materials. The petition was denied because the petitioning workers did not produce an article within the meaning of section 222(3) of the Act.

The petitioner alleges that a nearby (unaffiliated) facility that was certified for TAA benefits produced similar products, and thus believes that workers at J & J Forging Inc. should be certified.

A review of the products produced for this nearby facility revealed that some of the production is similar to that performed at the subject facility. However, the metal processed at the certified facility is owned by the company, whereas the subject firm performs finishing work on metal owned by customers of the subject firm. J & J Forging Inc. does not sell the metal they process and therefore their function is considered a service.

Only in very limited instances are service workers certified for TAA, namely the worker separations must be caused by a reduced demand for their services from a parent or controlling firm or subdivision whose workers produce an article and who are currently under certification for TAA.

The petitioner also appears to assert that the results of the events of 9/11 increased the import impact on subject firm workers.

As the work done at the subject facility is not considered production, import impact is not relevant.

In conclusion, the workers at the subject firm did not produce an article within the meaning of section 222(3) of the Trade Act of 1974.

Conclusion

After review of the application and investigative findings, I conclude that there has been no error or misinterpretation of the law or of the facts which would justify reconsideration of the Department of Labor's prior decision. Accordingly, the application is denied.

Signed at Washington, DC, this 27th day of February, 2003.
Edward A. Tomchick,
Director, Division of Trade Adjustment Assistance.

[FR Doc. 03-6408 Filed 3-17-03; 8:45 am]

BILLING CODE 4510-30-P